DEPARTMENT OF COMMERCE

International Trade Administration

[C-570-980]

Crystalline Silicon Photovoltaic Cells, Whether or Not Assembled Into Modules, From the People's Republic of China: Amended Final Results of Countervailing Duty Administrative Review; 2014

AGENCY: Enforcement and Compliance, International Trade Administration, Department of Commerce.

SUMMARY: The Department of Commerce (the Department) is amending the final results of the countervailing duty administrative review of crystalline silicon photovoltaic cells, whether or not assembled into modules (solar cells), from the People's Republic of China (PRC) to correct ministerial errors. The period of review (POR) is January 1, 2014, through December 31, 2014.

DATES: Applicable October 6, 2017.

FOR FURTHER INFORMATION CONTACT: Gene H. Calvert, AD/CVD Operations, Office VII, Enforcement and Compliance, International Trade Administration, U.S. Department of Commerce, 1401 Constitution Avenue NW., Washington, DC 20230; telephone: 202-482-3586.

SUPPLEMENTARY INFORMATION:

Background

In accordance with section 751(a)(1) of the Tariff Act of 1930, as amended (the Act), and 19 CFR 351.221(b)(5), on July 17, 2017, the Department published its final results in the countervailing duty administrative review of solar cells from the PRC.¹ On July 28, 2017, Canadian Solar Manufacturing (Changshu) Inc. and its cross-owned affiliates (collectively, Canadian Solar) timely alleged that the Department made two ministerial errors in the Final Results.² No other parties submitted ministerial error allegations or comments on Canadian Solar's allegations.

¹ See Crystalline Silicon Photovoltaic Cells, Whether or Not Assembled Into Modules, from the People's Republic of China: Final Results of Countervailing Duty Administrative Review, and Partial Rescission of Countervailing Duty Administrative Review; 2014, 82 FR 32678 (July 17, 2017) (Final Results) and accompanying Issues and Decision Memorandum (Decision Memorandum).

² See Canadian Solar Letter, “Crystalline Silicon Photovoltaic Cells, Whether or Not Assembled into Modules from the People's Republic of China: Ministerial Error Comments,” dated July 28, 2017 (Canadian Solar Ministerial Comments).

Scope of the Order

The merchandise covered by this order is crystalline silicon photovoltaic cells, and modules, laminates, and panels, consisting of crystalline silicon photovoltaic cells, whether or not partially or fully assembled into other products, including, but not limited to, modules, laminates, panels and building integrated materials. The merchandise covered by this order is currently classified in the Harmonized Tariff Schedule of the United States (HTSUS) under subheadings 8501.61.0000, 8507.20.80, 8541.40.6020, 8541.40.6030, and 8501.31.8000. While these HTSUS subheadings are provided for convenience and customs purposes, our written description of the scope, which is contained in the Decision Memorandum accompanying the Final Results, is dispositive.³

³ See the Decision Memorandum for a full description of the scope of the order.

Ministerial Errors

Section 751(h) of the Act and 19 CFR 351.224(f) define a “ministerial error” as an error “in addition, subtraction, or other arithmetic function, clerical error resulting from inaccurate copying, duplication, or the like, and any other similar type of unintentional error which the Secretary considers ministerial.” As discussed in the Department's Ministerial Error Memorandum, the Department finds that the errors alleged by Canadian Solar constitute ministerial errors within the meaning of 19 CFR 351.224(f).⁴ Specifically, we made ministerial errors with regard to calculating the benefit Canadian Solar received from the “Preferential Policy Lending Program,” and in calculating the inland freight values when constructing Canadian Solar's benchmark for programs regarding the provision of inputs for less than adequate remuneration.⁵

⁴ See Memorandum, “Administrative Review of the Countervailing Duty Order on Crystalline Silicon Photovoltaic Cells, Whether or Not Assembled Into Modules, from the People's Republic of China: Ministerial Error Comments Regarding the Final Results,” dated concurrently with and hereby adopted by this notice (Ministerial Error Memorandum).

⁵ See the Ministerial Error Memorandum for a complete discussion of these alleged errors.

In accordance with section 751(h) of the Act and 19 CFR 351.224(e), we are amending the Final Results.⁶ Specifically, we are amending the net subsidy rates for Canadian Solar and for the 17 companies for which a review was requested that were not selected as mandatory company respondents (i.e., the non-selected companies).⁷ The revised net subsidies rates are provided below.

⁶ See Final Results, 82 FR at 32680.

⁷ Consistent with the Final Results, for the non-selected companies, we calculated a rate by weight-averaging the calculated subsidy rates of the two mandatory respondents (i.e., Canadian Solar and Changzhou Trina Solar Energy Co., Ltd. and its cross-owned affiliates) using their publicly-ranged sales data for exports of subject merchandise to the United States during the POR.

Amended Final Results

As result of correcting the ministerial errors, we determine that that the countervailable subsidy rates for the producers/exporters under review to be as follows:

⁸ See Final Results, 82 FR at 32680. Cross-owned affiliates are: Canadian Solar Inc.; Canadian Solar Manufacturing (Luoyang) Inc.; CSI Cells Co., Ltd.; CSI Solar Power (China) Inc.; CSI Solartronics (Changshu) Co., Ltd.; CSI Solar Technologies Inc.; and CSI Solar Manufacture Inc.

⁹ Id. Cross-owned affiliates are: Trina Solar Limited; Trina Solar (Changzhou) Science & Technology Co., Ltd.; Yancheng Trina Solar Energy Technology Co., Ltd.; Changzhou Trina Solar Yabang Energy Co., Ltd.; Hubei Trina Solar Energy Co., Ltd.; Turpan Trina Solar Energy Co., Ltd.; and Changzhou Trina PV Ribbon Materials Co., Ltd.

Company | Subsidy rate (percent ad valorem)
Canadian Solar Manufacturing (Changshu) Inc. and its Cross-Owned Affiliates ⁸ | 18.16
Changzhou Trina Solar Energy Co., Ltd. and its Cross-Owned Affiliates ⁹ | 17.14
BYD (Shangluo) Industrial Co., Ltd | 17.49
Chint Solar (Zhejiang) Co., Ltd | 17.49
ET Solar Energy Limited | 17.49
ET Solar Industry Limited | 17.49
Hangzhou Sunny Energy Science and Technology Co., Ltd | 17.49
Jiawei Solarchina Co., Ltd | 17.49
Jiawei Solarchina (Shenzhen) Co., Ltd | 17.49
Lightway Green New Energy Co., Ltd | 17.49
Luoyang Suntech Power Co., Ltd | 17.49
Ningbo Qixin Solar Electrical Appliance Co., Ltd | 17.49
Shanghai BYD Co., Ltd | 17.49
Shenzhen Topray Solar Co. Ltd | 17.49
Systemes Versilis, Inc | 17.49
Taizhou BD Trade Co., Ltd | 17.49
tenKsolar (Shanghai) Co., Ltd | 17.49
Toenergy Technology Hangzhou Co., Ltd | 17.49
Wuxi Suntech Power Co., Ltd | 17.49

Assessment Rates/Cash Deposits

Normally, the Department would issue appropriate assessment instructions to U.S. Customs and Border Protection (CBP) 15 days after the date of publication of these amended final results of review, to liquidate shipments of subject merchandise produced and/or exported by the companies listed above entered, or withdrawn from warehouse, for consumption on or after January 1, 2014, through December 31, 2014. However, on August 3, 8, and 17, 2017, and on September 8, 2017, the U.S. Court of International Trade (CIT) preliminarily enjoined liquidation of certain entries that are subject to the Final Results.¹⁰ Accordingly, the Department will not instruct CBP to assess countervailing duties on those enjoined entries pending resolution of the associated litigation.

¹⁰ The CIT issued the preliminary injunctions in case numbers 17-00207, 17-00198, 17-00220, and 17-00221, respectively.

The Department intends to instruct CBP to collect cash deposits of estimated countervailing duties, in the amounts shown above for the companies listed above, on shipments of subject merchandise entered, or withdrawn from warehouse, for consumption on or after July 17, 2017, which is the date of publication of the Final Results. For all non-reviewed firms, we will instruct CBP to collect cash deposits at the most-recent company specific or all-others rate applicable to the company, as appropriate. These cash deposit requirements, when imposed, shall remain in effect until further notice.

Administrative Protective Order

This notice also serves a reminder to parties that are subject to administrative protective order (APO) of their responsibility concerning the return or destruction of proprietary information disclosed under APO in accordance with 19 CFR 351.305(a)(3), which continues to government business proprietary information in this segment of the proceeding. Timely written notification of the return/destruction of APO materials, or conversion to judicial protective order, is hereby requested. Failure to comply with the regulations and the terms of an APO is a sanctionable violation.

Disclosure

We intend to disclose the calculations performed for these amended final results to interested parties within five business days of the date of the publication of this notice in accordance with 19 CFR 351.224(b).

We are issuing and publishing these results in accordance with sections 751(h) and 777(i)(1) of the Act, and 19 CFR 351.224(e).

Dated: October 3, 2017.
Gary Taverman,
Deputy Assistant Secretary for Antidumping and Countervailing Duty Operations performing the non-exclusive functions and duties of the Assistant Secretary for Enforcement and Compliance.

[FR Doc. 2017-21589 Filed 10-5-17; 8:45 am]

BILLING CODE 3510-DS-P